DEPARTMENT OF HEALTH AND HUMAN SERVICES

Office of Inspector General

Program Exclusions: September 2000

AGENCY: Office of Inspector General, HHS.

ACTION: Notice of program exclusions.

During the month of September 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ANDERSON, RICHARD JOHN | 10/19/2000
TREMPEALEAU, WI
ARANZAZU, YOLANDA QUINTANA | 10/19/2000
MIAMI, FL
ARENAS, ARNOLFO CARSON JR | 10/19/2000
GLENDALE, CA
BAIRES, DOUGLAS ARTURO | 10/19/2000
SOUTH GATE, CA
BERNAL, LUCILA | 10/19/2000
KEY BISCAYNE, FL
BERNARDO, CAROL JOYCE | 10/19/2000
PROVIDENCE, RI
BRAILOVSKAIA, POLINA | 10/19/2000
WEST HOLLYWOOD, CA
CARNEY, EDWARD A | 10/19/2000
CAMP HILL, PA
CHANG, CANDACE | 10/19/2000
CHOWCHILLA, CA
CONWAY, JOHN W | 10/19/2000
LEXINGTON, KY
CROWN MEDICAL SERVICES INC | 10/19/2000
PROVIDENCE, RI
ELLSWORTH, GILBERT | 10/19/2000
COCONUT CREEK, FL
GILBERT, JAMES ANDREW | 10/19/2000
EL RENO, OK
GODZHOYAN, SARKIS | 10/19/2000
GLENDALE, CA
GOLDSTAR HEALTHCARE INC | 05/19/2000
TAMPA, FL
GORODETSKY, GEORGE | 10/19/2000
LOS ANGELES, CA
GUPTA, RAMESH KUMAR | 10/19/2000
TROY, MI
HAUSER, GREGORY LEE | 10/19/2000
ARROYO GRANDE, CA
HEIBLUM, MIRIAM | 10/19/2000
MIAMI, FL
HERMES, HARRY HERMAN III | 10/19/2000
FLORENCE, CO
ILORI, CLEMENT OLUWOLE | 10/19/2000
PROVIDENCE, RI
JRL HEALTH ASSOCIATES, LTD | 10/19/2000
WOOD RIDGE, NJ
KORANTENG, EILEEN | 10/19/2000
PEEKSKILL, NY
LACEY, JOAN R | 10/19/2000
WOOD RIDGE, NJ
LAWSON, DONNIE W | 10/19/2000
ASHLAND, KY
LEHRMAN, NORMAN P | 10/19/2000
DEVENS, MA
MAJOR, JEFFERY ALLAN | 10/19/2000
SACRAMENTO, CA
MANZO, SUZANNE MARIE | 10/19/2000
BRUNSWICK, ME
MATRIX BIOKINETICS, INC | 10/19/2000
LAS VEGAS, NV
MCKEAN, J D JR | 10/19/2000
EDMOND, OK
MCLEE-BERGERON, MARIE LOUISE | 10/19/2000
VISALIA, CA
MICHAEL, SAMI ISAAC | 10/19/2000
STEUBENVILLE, OH
NGUYEN, PHUONG THI | 10/19/2000
LAKE FOREST, CA
NGUYEN, LY QUANG | 10/19/2000
LOMPOC, CA
NICHOLS, MARYELLEN | 10/19/2000
COLUMBUS, OH
O'CONNOR, ANN M | 10/19/2000
BRONXVILLE, NY
PACE, CECILIA JOHNECE | 10/19/2000
GLADEWATER, TX
RODRIGUEZ, ELENA | 10/19/2000
MIAMI, FL
SAFONOVA, NATALIYA | 10/19/2000
BROOKLYN, NY
SALERA, SHEILA M | 10/19/2000
CRANSTON, RI
SAMARITAN HEALTH SYSTEMS, INC | 10/19/2000
LEXINGTON, KY
SCHWARTZ, DUANE EDWARD | 10/19/2000
LIBERTY, ME
SCOTTI, WILLIAM J | 10/19/2000
MARGATE, FL
SLEETH, ELVIN | 05/10/2000
TAMPA, FL
SORGNARD, RICHARD | 10/19/2000
N LAS VEGAS, NV
SUMBLIN, DELISA ANTOINETTE | 10/19/2000
SACRAMENTO, CA
SY, EVANICA | 10/19/2000
CHOWCHILIA, CA
TABLEMAN, BETH C | 10/19/2000
OLD TOWN, ME
TER-ORGANESYAN, ABRAM | 10/19/2000
RESEDA, CA
THURSTON, MICHAEL ALLAN | 10/19/2000
WHITE DEER, PA
TOBIAS, SHERYL LAVERNE | 10/19/2000
WEST COVINA, CA
VICTOR, ALEXANDRIA | 10/19/2000
NAGEEZI, NM
WICK, CARMEN | 10/19/2000
DUBLIN, CA
ZARRINNAM, MAJID | 10/19/2000
LOS ANGELES, CA
FELONY CONVICTION FOR HEALTH CARE FRAUD
CLIFTON, MARVIN DEMENTREOUS | 10/19/2000
BATON ROUGE, LA
MCGINNIS, KIMBERLY ANN | 10/19/2000
AUBURN, CA
SERIO, KARLEATHA D | 10/19/2000
PHOENIX, AZ
FELONY CONTROL SUBSTANCES CONVICTION
ANDERSON, GERALD MARVIN | 10/19/2000
LONG BEACH, CA
COCKERHAM JASS, JACQUELINE | 10/19/2000
PEKIN, IL
DOSKOCIL, THOMAS ANTON | 10/19/2000
BEAUMONT, TX
LOGAN, JOSEPH LEROY | 10/19/2000
WARREN, OH
SMIRNOFF, GEORGE | 10/19/2000
MARION, OH
PATIENT ABUSE/NEGLECT CONVICTIONS
AGGETT, BRIAN THOMAS | 10/19/2000
YAKIMA, WA
BEHRMAN, EDWARD | 10/19/2000
WAYNE, NJ
BELL, DORETHA C | 10/19/2000
TALLULAH, LA
CASTRO, RAMON | 10/19/2000
ARLETA, CA
GREEN, JULES RAY | 10/19/2000
ALEXANDRIA, LA
KELLY, SONYA R | 10/19/2000
SPRINGFIELD, OH
MERCADEL, MORRIS HENRY III | 10/19/2000
LOS ANGELES, CA
MOSES, LAURA MAY | 10/19/2000
CHARLESTON, NH
MURRAY, BRUCE WAYNE | 10/19/2000
ENID, OK
NALAM, CALIXTRO LATOGA | 10/19/2000
SHELTON, WA
OISAMAIYE, JAMES O | 10/19/2000
PROVIDENCE, RI
PETERSON, ELISA DEAINE | 10/19/2000
WASHOUGAL, WA
PIKE, MICHAEL ANTHONY | 10/19/2000
HOUSTON, TX
REID, CARL D | 10/19/2000
PENDLETON, OR
SHEEHAN, EDWARD F | 10/19/2000
POULTNEY, VT
SILVA, DANE DRAKE | 10/19/2000
KAILUA, HI
SIMMONS, LINDA | 10/19/2000
JACKSON, MS
TOMBLIN, DONALD G JR | 10/19/2000
KISTLER, WV
WHISNANT, JOYCE A | 10/19/2000
CINCINNATI, OH
TRAMMEL, DARLENE | 10/19/2000
LAS VEGAS, NV
WISE, KENNETH EUGENE JR | 10/19/2000
BELTON, TX
CONTROLLED SUBSTANCE CONVICTIONS
ZUCKER, ARNOLD HARRIS | 10/19/2000
PELHAM, NY
LICENSE REVOCATION/SUSPENSION/SURRENDERED
ADIONG, THELMA ROBLE | 10/19/2000
STOCKTON, CA
ALDAY, ATHENA S | 10/19/2000
MARIANNA, FL
ALI, HONOR CHRISTIAN PICKETT | 10/19/2000
CLARKSVILLE, IN
ANDREWS, MOLLY C | 10/19/2000
CHICAGO, IL
APPLEBY, CHRISTINA LYONS | 10/19/2000
BETHEL, VT
ASHTON, TRINA M | 10/19/2000
COLLINSVILLE, CT
BAKER, MARK A | 10/19/2000
VENICE, IL
BATTALINO, BARBARA ANN | 10/19/2000
LOS OSO, CA
BELT, STELLA LOUISE | 10/19/2000
GOLCONDA, IL
BIRDWELL, LINDA KAY | 10/19/2000
BONHAM, TX
BLAIR, TOM E | 10/19/2000
JENKINS, KY
BLISSARD, LINDA DIANE | 10/19/2000
CHANDLER, AZ
BRADTL, ANNETTE LEA | 10/19/2000
CAPO BEACH, CA
BURNS, JANICE A | 10/19/2000
ENDFIELD, NH
BURT, JOSEPH MARK | 10/19/2000
LANSING, MI
BUSENBARK-GARDNER, LINDA B | 10/19/2000
WOODINVILLE, WA
BYRAM, BARRY RAY | 10/19/2000
COSTA MESA, CA
CAIROLI, JOSEFINA | 10/19/2000
W COVINA, CA
CARTER, KATHLEEN | 10/19/2000
CHICAGO, IL
CASH, ELEANOR IWALANI | 10/19/2000
STOCKTON, CA
CHAHIL, AMARJIT SINGH | 10/19/2000
TRACY, CA
CHEATHAM, SHANTELL LASHAWN | 10/19/2000
AURORA, CO
CHEIN, EDMUND | 10/19/2000
PALM SPRINGS, CA
CIACCIA, MICHAEL J | 10/19/2000
LANCASTER, PA
CICINELLI, RICHARD RAY | 10/19/2000
NEW ORLEANS, LA
CLARK, BRUCE A | 10/19/2000
LOUISVILLE, KY
CLYDE, KEVIN JAMES | 10/19/2000
SAN DIEGO, CA
COLE, MARJORIE JOSEPH | 10/19/2000
BLAINE, MN
CONARY, JANICE L | 10/19/2000
DES MOINES, IA
COPELAND, GERARD CLARENCE | 10/19/2000
BELLWOOD, IL
COPENHAVER, JOHN MICHAEL | 10/19/2000
MARIETTA, GA
COPP, JERRY A | 10/19/2000
FARMINGTON, ME
COPPOLA, JANET R | 10/19/2000
N BENNINGTON, VT
COTA, DANIEL JESUS | 10/19/2000
SANTA MONICA, CA
COX, MARLANDA DAMARI OWENS | 10/19/2000
LOUISVILLE, KY
DANIELS, ALVIN J | 10/19/2000
LONG BEACH, NY
DEAETT, JILL M | 10/19/2000
HINSDALE, NH
DEGREEF, CONNY | 10/19/2000
SAN JUAN CAPISTRANO, CA
DELONG, RONALD ALLEN | 10/19/2000
NEW ALBANY, IN
DENNIS, MICHAEL HOWARD | 10/19/2000
MARTINDALE, TX
DESANTO, VICTORIA | 10/19/2000
HAVERTOWN, PA
DION, JAMI R | 10/19/2000
EXETER, NH
DOBBS, MELISSA FAY | 10/19/2000
MUSTANG, OK
EDGAR, CONNIE SUE | 10/19/2000
PASO ROBLES, CA
EVITTS, MARSHA LYNN | 10/19/2000
AURORA, IL
FAY, SUSAN EDITH | 10/19/2000
THREE OAKS, MI
FERLAND, ARMAND PHILIPPE | 10/19/2000
EDEN, VT
FORD, SHELBY J | 10/19/2000
BUENA VISTA, VA
FOSTER, MARY KIZER | 10/19/2000
RALEIGH, NC
FOSTER, ROBERT N | 10/19/2000
PRESTON, MD
GREEDY, JACQUELINE MAGNER | 10/19/2000
CARSON CITY, NV
GROGANS, EDWARD ERNEST | 10/19/2000
SANTA ROSA, CA
GUSTAFSON, SARA MARIE | 10/19/2000
ORLANDO, FL
HAGEN, DAVID LAWRENCE | 10/19/2000
LAFAYETTE, CA
HAND, ROBERT ALDRIDGE | 10/19/2000
AUGUSTA, GA
HEAPS, ERIC KEN | 10/19/2000
ROHNERT PARK, CA
HEMSLEY, HENRY W | 10/19/2000
NORWICH, NY
HENNING, STEVEN MICHAEL | 10/19/2000
GRETNA, LA
HO, SHING CHAU | 10/19/2000
NESCONSET, NY
HOFFSCHNEIDER, DOLORES | 10/19/2000
CLEVELAND, TX
HOLLAND, BRIAN DOUGLAS | 10/19/2000
AVAWAM, KY
HOUSEMAN, HEATHER LYNN | 10/19/2000
CARROLLTON, IL
HOUSTON, JULIE C | 10/19/2000
GALESBURG, IL
HOWARD, REBECCA J | 10/19/2000
SARDIS, TN
IMONDI, MARY CHRISTINE | 10/19/2000
WARWICK, RI
JOHNSON, TERESA W | 10/19/2000
CANAL WINCHESTER, OH
JOHNSON, CHARLES L | 10/19/2000
LOS ANGELES, CA
JOYNER, JEFFREY E | 10/19/2000
MCDONALD, TN
KEEN, MONTE S | 10/19/2000
DEMAREST, NJ
KENNA, JOHN F | 10/19/2000
PALOS HILLS, IL
KEYS, HERBERT LOUIS | 10/19/2000
AURORA, CO
KINDLER, JAMES D | 10/19/2000
DES MOINES, IA
KLIMAS, RICHARD ALAN | 10/19/2000
DECATUR, AL
KNEZEVICH, STEPHEN D | 10/19/2000
CHATSWORTH, CA
KOPPES, MOTY | 10/19/2000
NEWPORT BEACH, CA
LINKSWILER, SANDRA CAROLE | 10/19/2000
SALEM, VA
LOVELL, DEAN RALPH | 10/19/2000
BIDDEFORD, ME
MALONE, COLLEEN MARIE | 10/19/2000
AMSTERDAM, NY
MARTIN, TIMOTHY P | 10/19/2000
NARRAGANSETT, RI
MASTEJ, RYAN THOMAS | 10/19/2000
WEST HAVEN, CT
MAUN, LORENZO PAYABYAB | 10/19/2000
LAKE FOREST, CA
MAZZEO, MICHAEL JOHN | 10/19/2000
PIERMONT, NY
MCCARTHY, SUE ANNE | 10/19/2000
BUFFALO, NY
MILLER, EDGAR | 10/19/2000
CLINTON, MS
MILLER, SAMUEL J | 10/19/2000
ELWOOD, IL
MONTGOMERY, TERRY GLENN | 10/19/2000
GUNNISSON, UT
MOORHEAD, JAMES FRANKLIN | 10/19/2000
COLLEGE PARK, GA
MORANO, CAROL RUTH | 10/19/2000
BRIDGEPORT, CT
NAGLE, BONNIE VAN ALLEN | 10/19/2000
OXON HILL, MD
NAJI-TALAKAR, BAHMAN | 10/19/2000
PHOENIX, AZ
NILSSON, JERRY D | 10/19/2000
STANTON, CA
NOVICK, PHILIP B | 10/19/2000
FISHKILL, NY
NYGREN, NANETTE LOUISE | 10/19/2000
PHOENIX, AZ
OLIVER, WILLIAM PETER | 10/19/2000
MANCHESTER, NH
OWENS, KELLE PRICE | 10/19/2000
SPRINGFIELD, VA
PEARSON, MICHAEL D | 10/19/2000
ANCHORAGE, AK
PECKLER, JOHN E | 10/19/2000
FRESON, CA
PERRY, KENNETH B | 10/19/2000
ST PETERSBURG, FL
PESESKY, ELIZABETH ANN | 10/19/2000
ELMIRA HEIGHTS, NY
PORCHE, RENEE LOUISE | 10/19/2000
OAKLAND, CA
POST, DAVID LAWRENCE | 10/19/2000
SAN RAMON, CA
POWELL, LAURIE | 10/19/2000
LOS ANGELES, CA
POWELL, GWENDOLYN FAYE | 10/19/2000
JONESBORO, AK
PRATER, LINDA ANDERSON | 10/19/2000
WINCHESTER, KY
PROCTOR, MICHELLE LEE | 10/19/2000
FORNEY, TX
PRYCE, LLOYD ALEXANDER | 10/19/2000
DUNCANVILLE, TX
PUNG, LARRY J | 10/19/2000
COOKEVILLE, TN
REDDING, CAROL A | 10/19/2000
STONY BROOK, NY
RODGERS, JEFFREY DRAKE | 10/19/2000
DANVILLE, VA
ROGERS, MATTHEW SEBASTIAN | 10/19/2000
NAVASOTA, TX
ROMERO, IRAIDA | 10/19/2000
MIAMI, FL
ROYSTON, LAURA | 10/19/2000
RICHMOND, CA
RUSHING, ROSETTA M | 10/19/2000
HAMPTON, VA
SAID, ELIAS | 10/19/2000
GRAYSON, GA
SCHULTE, JEROME LEWIS | 10/19/2000
ATASCADERO, CA
SHAH, SURESHCHANDRA C | 10/19/2000
PALM DESERT, CA
SHETTY, NAGESH | 10/19/2000
COSTA MESA, CA
SIROIS, BRENDA JANE | 10/19/2000
MILFORD, NH
SKILLION, ANTHONY | 10/19/2000
NASHVILLE, TN
SMITH, BRUCE W | 10/19/2000
SAN BERNARDINO, CA
SMITH, BELINDA A | 10/19/2000
ROOSEVELT, NY
ST LUCIA, STEVEN ANTHONY | 10/19/2000
SCHENECTADY, NY
STODDART, JAMES EDWARD | 10/19/2000
SAN DIEGO, CA
TALVY, LOURDES DAMO | 10/19/2000
E ROCKAWAY, NY
THOMASSEN, JOHN ARTHUR | 10/19/2000
STOCKTON, CA
TOMLIN, CYNTHIA EARLENE | 10/19/2000
BAKERSFIELD, CA
TORBERT, DARRELL WAYNE | 10/19/2000
SOMERSET, KY
VOLK, KAREN A | 10/19/2000
ROSLYN, PA
VON HERZEN, BRUCE ALEXANDER | 10/19/2000
SAN JUAN, CAPISTRANO, CA
WACTOR, JAMES DAREN | 10/19/2000
KESWICK, VA
WARDLAW, JOE ROY | 10/19/2000
BOGART, GA
WAYNE, BRYAN MATTHEW | 10/19/2000
HOUSTON, TX
WHITE, HOLLY BETH | 10/19/2000
LAGUNA BEACH, CA
WICKERD, RONALD GAYLE | 10/19/2000
MORENO VALLEY, CA
WILLARD, AMBER S | 10/19/2000
BARRE, VT
WINSTEAD, ARTHUR NICK III | 10/19/2000
BAKERSFIELD, CA
WISIAN, NORA LORETTA | 10/19/2000
DALLAS, TX
WOODS, JANET ROSE | 10/19/2000
ALTON, NH
WOODWARD, WILLOW MARGARET | 10/19/2000
NIAGARA FALLS, NY | YING, LLOYD | 10/19/2000
CANTON, MI
FEDERAL/STATE EXCLUSION/SUSPENSION
ADAJAR, MARIO ADA | 10/19/2000
CHICAGO, IL
BARB CORP | 10/19/2000
DES PLAINES, IL
CASTEN, CHRIS PETER | 10/19/2000
RIVER FOREST, IL
CHAJET, ROBERTA | 10/19/2000
NORTHBROOK, IL
CHAJET, BARRY | 10/19/2000
NORTHBROOK, IL
DONNARUMMA, CHRISTINE ELIZABETH | 10/19/2000
FORKED RIVER, NJ
FAMILY CARE PHARMACY | 10/19/2000
PHILADELPHIA, PA
JACOBSON, CRAIG STEVEN | 10/19/2000
HILLSIDE, NJ
PATEL, BABUBHAI PRAHLADBHAI | 10/19/2000
ADDISON, IL
QUEEN'S MEDICAL SUPPLY | 10/19/2000
HUNTINGTON PARK, CA
SUN REHAB, INC | 10/19/2000
MULLICA HILL, NJ
VAUGHAN'S PHARMACY, INC | 10/19/2000
WOLCOTT, CT
FRAUD/KICKBACKS
LEVIN, GERALD A | 05/01/2000
INDIANAPOLIS, IN | TARAVELLA, LORETTA CAPP | 12/28/1999
TAMPA, FL
OWNED/CONTROLLED BY CONVICTED EXCLUDED
AMIABLE PHARMACY | 10/19/2000
BROOKLYN, NY
CENTRE CHIROPRACTIC ASSOC | 10/19/2000
STATE COLLEGE, PA
DANIELS DRUG HEALTHMART | 10/19/2000
MALTA, MT
DENTURE SHOP | 10/19/2000
AUSTIN, TX
GEMSTAR OXIMETRY INC. | 10/19/2000
DENVER, CO
GRAND COTEAU PRESCRIPTION | 10/19/2000
GRAN COTEAU, LA
HEALTH PARTNERS, P C | 10/19/2000
EVANSVILLE, IN
HOLISTIC HEALTH CENTER | 10/19/2000
TUSTIN, CA
OBATA CHIROPRACTIC CLINIC, P C | 10/19/2000
COLLEGE PARK, GA
PAUNOVIC & PAUNOVIC | 10/19/2000
NEWBURGH, NY
PROMETEO COUNSELING CTR, INC | 10/19/2000
MIAMI, FL | TURNER CHIROPRACTIC & FITNESS | 10/19/2000
SALLISAW, OK
DEFAULT ON HEAL LOAN
AL-AMIN, IHSAAN | 10/19/2000
RINGGOLD, GA
BARATTA, GEORGE A JR | 10/19/2000
DANVILLE, CA
BARGHOUTI, TARIQ A | 10/19/2000
PORTLAND, OR
BECK, MARK L | 8/21/2000
WASHINGTON, DC
BERGHERM, BRENT G | 10/19/2000
CARTERSVILLE, GA
BERNARDONE, JEFFREY J | 10/19/2000
MANSFIELD, MA
BLISS, CHRISTOPHER E | 10/19/2000
ATTLEBORO, MA
BOWER, DIAN L | 10/19/2000
NORMAN, OK
BROUSSARD, CHARLOTTE R | 10/19/2000
OKLAHOMA CITY, OK
CHICCHETTI, CHRISTOPHER R | 10/19/2000
WEST PALM BEACH, FL
CRAFTON, DENHAM B II | 10/19/2000
TUCSON, AZ
DACOSTA, MICHAEL P | 10/19/2000
MIAMI, FL
FOLLINI, CHRISTOPHER L | 10/19/2000
YORKTOWN HGTS, NY
FONTENOT, TOM R | 10/19/2000
GROVES, TX
GONZALEZ, STELLA R | 10/19/2000
TOLEDO, OH
GUARNERA, JOSEPH E | 10/19/2000
ARLINGTON, TX
HASS, KURT B | 10/19/2000
SIMI VALLEY, CA
HIBBERT, HAROLD H | 10/19/2000
PALO ALTO, CA
HINDS, THOMAS E | 8/31/2000
S SIOUX CITY, NE
HOLDCROFT, MICHAEL P | 10/19/2000
ALLISON PARK, PA
HUTCHES, MERILYN M | 10/19/2000
DETROIT LAKES, MN
JOHNSON, RICHARD K | 10/19/2000
INGLEWOOD, CA
JULIA, GIL M | 10/19/2000
DALLAS, TX
KASCIUS, LAUREN | 10/19/2000
JULIAN, CA
LAWRENCE, ROBERT DONALD | 10/19/2000
SAN FRANCISCO, CA
LEONARDI, VICTOR L | 10/19/2000
PEORIA, AZ
LONG, TIMOTHY J | 10/19/2000
PALMYRA, PA
LUEKE, CARL H | 10/19/2000
KEARNEY, MO
LYVAN, KIM | 10/19/2000
NEW YORK, NY
MASRI, NASSER M | 10/19/2000
PATERSON, NJ
MCCONNELL, DWAIN E | 10/19/2000
AURORA, CO
MCCOY, SHAWN D | 10/19/2000
BELLEVUE, NE
MCGEE, ARNIE D | 10/19/2000
GORE, OK
MILLWARD, DENNIS E | 10/19/2000
SAN FRANCISCO, CA
MONTALVO, EDWIN R | 10/19/2000
SAN GERMAN, PR
MORITZ, GREGORY M | 10/19/2000
DOUGLASVILLE, GA
NOWAK, OWEN B | 10/19/2000
LINCOLNWOOD, IL
OLIVER, MARC L | 10/19/2000
NASHVILLE, TN
PEREZ, REINALDO R | 10/19/2000
CAROLINA, PR
PHUNG, SON H | 10/19/2000
CHICAGO, IL
RITCHIE, WILLIAM N III | 10/19/2000
STRATFORD, NJ
RIVERA-RIGAU, LESTER R | 10/19/2000
CABO ROJO, PR
ROBINSON, ADDIE HILDA | 10/19/2000
COLUMBIA, MD
SARIEDDINE, AELIS L | 10/19/2000
RIO PIEDRAS, PR
SCHOURUP, JULIE A | 10/19/2000
MCNEAL, AZ
STAFFORD, JERRY LEE JR | 10/19/2000
BOISE, ID
STARK, KIMBERLY D | 10/19/2000
RIVERDALE, NJ
SUMINSKI, MICHAEL T | 10/19/2000
BORING, OR
TURNER, DORIAN R | 10/19/2000
TAHLEQUAH, OK
TURNER, MARSHA R | 10/19/2000
SALLISAW, OK
WEISSE, CARL E | 10/19/2000
PHILADELPHIA, PA
WILHELM, STEPHEN J | 10/19/2000
CARNEGIE, PA
YAHNIAN, LAWRENCE D | 10/19/2000
DENVER, CO
YOUNG, HENRY L JR | 10/19/2000
GOODLETTSVILLE, TN
OWNERS OF EXCLUDED ENTITIES
THORNTON, GLADYS | 10/19/2000
COLORADO SPRINGS, CO

Dated: October 5, 2000.
Calvin Anderson, Jr.,
Director, Health Care Administrative Sanctions, Office of Inspector General.

[FR Doc. 00-26469 Filed 10-13-00; 8:45 am]

BILLING CODE 4150-04-P